NUCLEAR REGULATORY COMMISSION

[NRC-2015-0117]

Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from April 16, 2015, to April 29, 2015. The last biweekly notice was published on April 28, 2015.

DATES: Comments must be filed by June 11, 2015. A request for a hearing must be filed by July 13, 2015.

ADDRESSES: You may submit comments by any of the following methods (unless this document describes a different method for submitting comments on a specific subject):

• Federal Rulemaking Web site: Go to http://www.regulations.gov and search for Docket ID NRC-2015-0117. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Lynn M. Ronewicz, Office of Nuclear Reactor Regulation, U.S. Nuclear Regulatory Commission, Washington, DC 20555-0001; telephone: 301-415-1927, email: Lynn.Ronewicz@nrc.gov.

SUPPLEMENTARY INFORMATION:

I. Obtaining Information and Submitting Comments

A. Obtaining Information

Please refer to Docket ID NRC-2015-0117 when contacting the NRC about the availability of information for this action. You may obtain publicly-available information related to this action by any of the following methods:

• Federal Rulemaking Web site: Go to http://www.regulations.gov and search for Docket ID NRC-2015-0117.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0117, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally the Commission will not issue the amendment until the expiration of 60 days after the date of publication of this notice. The Commission may issue the license amendment before expiration of the 60-day period, provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final no significant hazards consideration determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel will rule on the request and/or petition; and the Secretary or the Chief Administrative Judge of the Atomic Safety and Licensing Board will issue a notice of a hearing or an appropriate order.

As required by 10 CFR 2.309, a petition for leave to intervene shall set forth with particularity the interest of the petitioner in the proceeding and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion that support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment, unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station, Units 1, 2, and 3, Maricopa County, Arizona

Date of amendment request: February 27, 2015. A publicly-available version is in ADAMS under Accession No. ML15065A031.

Description of amendment request: The amendments would revise Technical Specification (TS) 1.3, “Completion Times”; TS 3.7.5, “Auxiliary Feedwater (AFW) System”; TS 3.8.1, “AC [Alternating Current] Sources—Operating”; and TS 3.8.9, “Distribution Systems—Operating,” to remove the second completion times. The change would also revise Example 1.3-3 in TS 1.3, “Completion Times,” by adding a discussion of administrative controls to combinations of Conditions to ensure that the Completion Times for those conditions are not inappropriately extended.

The proposed changes are consistent with the NRC-approved Technical Specification Task Force (TSTF) Traveler TSTF-439-A, Revision 2, “Eliminate Second Completion Times Limiting Time From Discovery of Failure to Meet an LCO [Limiting Condition of Operation],” dated June 20, 2005 (ADAMS Accession No. ML051860296).

Basis for proposed no significant hazards consideration determination: As required by 10 CFR 50.91(a), the licensee has provided its analysis of the issue of no significant hazards consideration, which is presented below:

1. Does the proposed amendment involve a significant increase in the probability or consequences of an accident previously evaluated?

Response: No.

The change proposed by incorporating TSTF-439-A, Revision 2, eliminates certain Completion Times from the Technical Specifications. Completion Times are not an initiator of any accident previously evaluated. As a result, the probability of an accident previously evaluated is not affected. The consequences of an accident during the revised Completion Times are no different than the consequences of the same accident during the existing Completion Times. As a result, the consequences of an accident previously evaluated are not affected by this change. The proposed change does not alter or prevent the ability of structures, systems, or components from performing their intended function to mitigate the consequences of an initiating event within the assumed acceptance limits.

The proposed change to modify certain Completion Times does not affect the source term, containment isolation, or radiological release assumptions used in evaluating the radiological consequences of an accident previously evaluated. Further, the proposed change does not increase the types or amounts of radioactive effluent that may be released offsite, nor significantly increase the cumulative occupational/public radiation exposures. The proposed change is consistent with the safety analysis assumptions and resultant consequences.

Therefore, the proposed amendment does not involve a significant increase in the probability or consequences of an accident previously evaluated.

2. Does the proposed amendment create the possibility of a new or different kind of accident from any accident previously evaluated?

Response: No.

The proposed changes do not involve a physical alteration of the plant (i.e., no new or different type of equipment will be installed) or a change in the methods governing normal plant operation. The proposed changes do not alter any assumptions made in the safety analyses.

3. Does the proposed amendment involve a significant reduction in the margin of safety?

Response: No.

The proposed change to delete the second [Completion Time] and the related example of the second Completion Time does not alter the manner in which safety limits, limiting safety systems settings or limiting conditions for operation are determined. The safety analysis acceptance criteria are not affected by this change. The proposed change will not result in plant operation in a configuration outside of the design basis.

Therefore, the proposed amendment does not involve a significant reduction in the margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, AZ 85072-2034.

NRC Branch Chief: Michael T. Markley.

Duke Energy Carolinas, LLC, Docket Nos. 50-369 and 50-370, McGuire Nuclear Station, Units 1 and 2, Mecklenburg County, North Carolina

Date of amendment request: March 23, 2015. A publicly-available version is in ADAMS under Accession No. ML15097A010.

Description of amendment request: The amendments would modify the definition of RATED THERMAL POWER and delete a footnote that allowed for staggered implementation of the previously approved Measurement Uncertainty Recapture Power Uprate.

Basis for proposed no significant hazards consideration determination: As required by 10 CFR 50.91(a), the licensee has provided its analysis of the issue of no significant hazards consideration, which is presented below:

1. Does the proposed amendment involve a significant increase in the probability or consequences of an accident previously evaluated?

Response: No.

This LAR [license amendment request] proposes administrative non-technical changes only. These proposed changes do not adversely affect accident initiators or precursors nor alter the design assumptions, conditions, or configurations of the facility. The proposed changes do not alter or prevent the ability of structures, systems[,] and components (SSCs) to perform their intended function to mitigate the consequences of an initiating event witin the assumed acceptance limits.

Given the above discussion, it is concluded the proposed amendment does not significantly increase the probability or consequences of an accident previously evaluated.

2. Does the proposed amendment create the possibility of a new or different kind of accident from any accident previously evaluated?

Response: No.

The LAR proposes administrative non-technical changes only. The proposed changes will not alter the design requirements of any SSC or its function during accident conditions. No new or different accidents result from the changes proposed. The changes do not involve a physical alteration of the plant or any changes in methods governing normal plant operation. The changes do not alter assumptions made in the safety analysis.

Given the above discussion, it is concluded the proposed amendment does not create the possibility of a new or different kind of accident from any accident previously evaluated.

3. Does the proposed amendment involve a significant reduction in a margin of safety?

Response: No.

This LAR proposes administrative non-technical changes only. The proposed changes do not alter the manner in which safety limits, limiting safety system settings or limiting conditions for operation are determined. The safety analysis acceptance criteria are not affected by these changes. The proposed changes will not result in plant operation in a configuration outside the design basis. The proposed changes do not adversely affect systems that respond to safely shutdown the plant and to maintain the plant in a safe shutdown condition.

Given the above discussion, it is concluded [that] the proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Robert J. Pascarelli.

Exelon Generation Company, LLC, Docket No. 50-461, Clinton Power Station (CPS), Unit 1, DeWitt County, Illinois

Date of amendment request: November 17, 2014, as supplemented by letter dated April 21, 2015. Publicly-available versions are in ADAMS under Accession Nos. ML14321A882 and ML15111A258, respectively.

Description of amendment request: The amendment would revise technical specification (TS) 5.5.2, “Primary Coolant Sources Outside Containment,” to change the integrated leak testing frequency for systems subject to TS 5.5.2. The proposed amendment was initially published in the Federal Register Biweekly Notice on February 17, 2015 (80 FR 8361).

Basis for proposed no significant hazards consideration determination: As required by 10 CFR 50.91(a), the licensee has provided its analysis of the issue of no significant hazards consideration, which is presented below:

1. Does the proposed change involve a significant increase in the probability or consequences of an accident previously evaluated?

Response: No.

The proposed change to the CPS, Unit 1, TS 5.5.2, “Primary Coolant Sources Outside Containment” program, does not involve a physical change to the plant or a change in the manner in which the plant is operated or controlled. The proposed amendment affects only the interval at which integrated system leak tests are performed, not the effectiveness of the integrated leak test requirements for the identified systems. The proposed change effectively results in the performance of the integrated system leak tests at the same frequency that these tests are currently being performed. Incorporation of an allowance to extend the 24-month interval by 25% does not significantly degrade the reliability that results from performing the surveillance at its specified frequency. Implementation of the proposed change will continue to provide adequate assurance that during design basis accidents, the containment and its components would limit leakage rates to less than the values assumed in the plant safety analyses.

Test intervals are not considered as initiators of any accident previously evaluated. As a result, the probability of any accident previously evaluated is not significantly increased by the proposed amendment. TS 5.5.2 continues to require the performance of periodic integrated system leak tests. As stated in TS 5.5.2, the required plan provides controls to minimize leakage from those portions of systems outside containment that could contain highly radioactive fluids during a serious transient or accident to levels as low as practicable. Therefore, accident analysis assumptions will still be verified. The proposed change does not impact the purpose of this plan. As a result, the consequences of any accident previously evaluated are not significantly increased.

Therefore, the probability and consequences of an accident previously evaluated will not be increased by this proposed change.

2. Does the proposed change create the possibility of a new or different kind of accident from any accident previously evaluated?

Response: No.

The testing requirements, to minimize leakage from those portions of systems outside containment that could contain highly radioactive fluids during a serious transient or accident, exist to ensure the plant's ability to mitigate the consequences of an accident and do not involve any accident precursors or initiators. The proposed amendment affects only the interval at which integrated system leak tests are performed; they do not alter the design or physical configuration of the plant. The proposed change does not involve a physical change to the plant (i.e., no new or different type of equipment will be installed) or a change to the manner in which the plant is currently operated or controlled.

Therefore, the proposed change does not create the possibility of a new or different kind of accident from any previously evaluated.

3. Does the proposed change involve a significant reduction in a margin of safety?

Response: No.

The proposed change does not alter the manner in which safety limits, limiting safety system setpoints, or limiting conditions for operation are determined. The specific requirements and conditions of the primary coolant sources outside containment program, as proposed, will continue to ensure that the leakage from the identified systems outside containment is minimized. The proposed amendment provides operating flexibility without significantly affecting plant operation.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Travis L. Tate.

Exelon Generation Company, LLC, Docket Nos. 50-317 and 50-318, Calvert Cliffs Nuclear Power Plant, Units 1 and 2, Calvert County, Maryland

Exelon Generation Company, LLC, Docket No. 50-410, Nine Mile Point Nuclear Station, Unit 2, Oswego County, New York

Exelon Generation Company, LLC, Docket No. 50-244, R.E. Ginna Nuclear Power Plant, Wayne County, New York

Date of amendment request: July 10, 2014. A publicly-available version is in ADAMS under Accession No. ML14191A255.

Description of amendment request: The amendments would revise and add several Technical Specification surveillance requirements (SRs) to address concerns discussed in Generic Letter 2008-01, “Managing Gas Accumulation in Emergency Core Cooling, Decay Heat Removal, and Containment Spray Systems.” These changes are consistent with Technical Specification Task Force Traveler 523, Revision 2, “Generic Letter 2008-01, Managing Gas Accumulation.”

Basis for proposed no significant hazards consideration determination: As required by 10 CFR 50.91(a), the licensee has provided its analysis of the issue of no significant hazards consideration, which is presented below:

1. Does the proposed change involve a significant increase in the probability or consequences of an accident previously evaluated?

Response: No.

The proposed change revises or adds SRs that require verification that the Emergency Core Cooling System (ECCS), Residual Heat Removal (RHR) System, Shutdown Cooling (SDC) System, the Containment Spray (CS) System, and the Reactor Core Isolation Cooling (RCIC) System, as appropriate, are not rendered inoperable due to accumulated gas and to provide allowances which permit performance of the revised verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Therefore, the proposed change does not involve a significant increase in the probability or consequences of an accident previously evaluated.

2. Does the proposed change create the possibility of a new or different kind of accident from any accident previously evaluated?

Response: No.

The proposed change revises or adds SRs that require verification that the ECCS, RHR, SDC, CS, and RCIC systems, as appropriate, are not rendered inoperable due to accumulated gas and to provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, RHR, SDC, CS, and RCIC systems, as appropriate, are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits or limiting safety system settings that would adversely affect plant safety as a result of the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Exelon Generation, 200 Exelon Way, Kennett Square, PA 19348.

NRC Acting Branch Chief: Michael I. Dudek.

FirstEnergy Nuclear Operating Company, et al., Docket Nos. 50-334 and 50-412, Beaver Valley Power Station, Units 1 and 2, Beaver County, Pennsylvania

Date of amendment request: April 1, 2015. A publicly-available version is in ADAMS under Accession No. ML15092A569.

Description of amendment request: The amendment would change the Beaver Valley Power Station, Units 1 and 2 (BVPS-1 and BVPS-2), technical specifications. Specifically, the proposed license amendment would revise various sections associated with steam generators and would include changes that are consistent with the guidance provided in Technical Specification Task Force (TSTF) Traveler 510, Revision 2, “Revision to Steam Generator Program Inspection Frequencies and Tube Sample Selection” (ADAMS Accession No. ML110610350).

Basis for proposed no significant hazards consideration determination: As required by 10 CFR 50.91(a), the licensee has provided its analysis of the issue of no significant hazards consideration, which is presented below, along with NRC edits in square brackets:

1. Does the proposed amendment involve a significant increase in the probability or consequences of an accident previously evaluated?

Response: No.

The proposed changes to Technical Specification 5.5.5.2.f.3 replaces the date and outage when all Alloy 800 sleeves shall be removed from service with a limitation on the individual sleeve service life from the date of installation. The allowed maximum service life previously approved for Alloy 800 sleeves remains unchanged. Since the maximum service life of the Alloy 800 sleeves is unchanged, the probability of a failure due to degradation does not increase.

Implementation of the proposed changes to TS 5.5.5.2.f.3 have no significant effect on either the configuration of the plant or the manner in which is it operated. The consequences of a hypothetical failure of the leak-limiting Alloy 800 sleeve/tube assembly are bound by the current steam generator tube rupture (SGTR) analysis described in the BVPS-2 Updated Final Safety Analysis Report (UFSAR) because the total number of plugged SG tubes (including equivalency associated with installed sleeves) is required to be consistent with accident analysis assumptions. A main steam line break or feedwater line break would not cause a SGTR since the sleeves are analyzed for a maximum accident differential pressure greater than that predicted in the BVPS-2 accident analysis. The sleeve/tube assembly leakage during plant operation would be minimal and is well within the allowable Technical Specification leakage limits and accident analysis assumptions, neither of which would be changed to compensate for the repair method.

The proposed changes to TSs 3.4.20, 5.5.5, and 5.6.6 are consistent with TSTF-510, editorial corrections, and clarifications. Changes that are consistent with TSTF-510 and other editorial corrections and clarifications do not change the physical plant or how it is operated; therefore they cannot affect the probability or consequence of a previously-evaluated accident. A proposed change modifies the frequency of verification of SG [steam generator] tube integrity and SG tube sample selection. The proposed SG tube inspection frequency and sample selection criteria will continue to ensure that the SG tubes are inspected such that the probability of a SGTR is not increased. The consequences of a SGTR are bounded by the conservative assumptions in the design basis accident analysis. The proposed changes will not cause the consequences of a SGTR to exceed those assumptions.

Therefore, it is concluded that these changes do not involve a significant increase in the probability or consequences of an accident previously evaluated.

2. Does the proposed amendment create the possibility of a new or different kind of accident from any accident previously evaluated?

Response: No.

Proposed changes to Technical Specification 5.5.5.2.f.3 replaces the date and outage when all Alloy 800 sleeves shall be removed from service with a limitation on the individual sleeve service life from the date of installation. The allowed maximum service life previously approved for Alloy 800 sleeves remains unchanged.

Implementation of these proposed changes have no significant effect on either the configuration of the plant or the manner in which it is operated. The leak-limiting Alloy-800 sleeves are designed using the applicable ASME Code as guidance and meet the objectives of the original SG tubing. As a result, the functions of the SG will not be significantly affected by the installation of the proposed sleeve. Therefore, the only credible failure mode for the sleeve or tube is to rupture, which has already been evaluated. No new failure modes, malfunctions, or accident initiators have been created. The continued integrity of the installed sleeve/tube assembly is periodically verified as required by the Technical Specifications and a sleeved tube will be plugged on detection of a flaw in the sleeve or in the pressure boundary portion of the original tube wall in the sleeve-to-tube joint.

The proposed changes to TSs 3.4.20, 5.5.5, and 5.6.6 are changes consistent with TSTF-510, editorial corrections, and clarification. These changes do not affect the operation of the SGs or the ability of the SGs to perform their design or safety functions; therefore they do not create new failure modes, malfunctions, or accident initiators.

Therefore, the proposed changes do not create the possibility of a new or different kind of accident from any previously evaluated.

3. Does the proposed amendment involve a significant reduction in a margin of safety?

Response: No.

The SG tubes in pressurized water reactors are an integral part of the reactor coolant pressure boundary and, as such, are relied upon to maintain the primary system's pressure and inventory. As part of the reactor coolant pressure boundary, the SG tubes are unique in that they are also relied upon as a heat transfer surface between the primary and secondary systems such that residual heat can be removed from the primary system. In addition, the SG tubes also isolate the radioactive fission products in the primary coolant from the secondary system. In summary, the safety function of a SG is maintained by ensuring the integrity of its tubes.

Proposed changes to Technical Specification 5.5.5.2.f.3 replaces the date and outage when all Alloy 800 sleeves shall be removed from service with a limitation on the individual sleeve service life from the date of installation. The allowed maximum service life previously approved for Alloy 800 sleeves remains unchanged.

The sleeve and portions of the installed sleeve/tube assembly that represent the reactor coolant pressure boundary will be monitored and a sleeved tube will be plugged on detection of a flaw in the sleeve or in the pressure boundary portion of the original tube wall in the leak-limiting sleeve/tube assembly. Design criteria and design verification testing ensures that the margin of safety is not significantly different from the original SG tubes.

The proposed changes to TSs 3.4.20, 5.5.5, and 5.6.6 are changes consistent with TSTF-510, editorial corrections, and clarifications. The proposed changes will continue to require monitoring of the physical condition of the SG tubes such that there will not be a reduction in the margin of safety compared to the current requirements.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: David W. Jenkins, FirstEnergy Nuclear Operating Company, FirstEnergy Corporation, 76 South Main Street, Akron, OH 44308.

NRC Branch Chief: Douglas A. Broaddus.

Florida Power & Light Company (FPL), Docket Nos. 50-250 and 50-251, Turkey Point Nuclear Generating Units 3 and 4, Miami-Dade County, Florida

Date of amendment request: April 9, 2014, as supplemented by letters dated February 20, 2015, and April 3, 2015. Publicly available versions are in ADAMS under Accession Nos. ML14105A042, ML15069A153, and ML15113A311, respectively.

Description of amendment request: The NRC staff has previously made a proposed determination that the amendment request dated April 9, 2014, involves no significant hazards consideration (79 FR 42551; July 22, 2014). Subsequently, by letter dated April 3, 2015, the licensee provided additional information that expanded the scope of the amendment request as originally noticed. Accordingly, this notice supersedes the previous notice in its entirety.

The amendment would revise the Technical Specifications (TSs) by relocating specific surveillance frequency requirements to a licensee-controlled program with implementation of Nuclear Energy Institute (NEI) 04-10 (Revision 1), “Risk-Informed Technical Specification Initiative 5b, Risk-Informed Method for Control of Surveillance Frequencies” (ADAMS Accession No. ML071360456). The licensee stated that the NEI 04-10 methodology provides reasonable acceptance guidelines and methods for evaluating the risk increase of proposed changes to surveillance frequencies, consistent with Regulatory Guide 1.177, “An Approach for Plant-Specific, Risk-Informed Decisionmaking: Technical Specifications” (ADAMS Accession No. ML003740176). The licensee stated that the changes are consistent with NRC-approved Technical Specification Task Force (TSTF) Standard Technical Specifications change TSTF-425, Revision 3, “Relocate Surveillance Frequencies to Licensee Control—RITSTF [Risk-Informed TSTF] Initiative 5b,” Revision 3 (ADAMS Accession No. ML090850642). The Federal Register notice published on July 6, 2009 (74 FR 31996), announced the availability of TSTF-425, Revision 3. In the supplement dated April 3, 2015, the licensee requested additional surveillance frequencies be relocated to the licensee-controlled program, editorial changes, administrative deviations from TSTF-425, and other changes resulting from differences between the Turkey Point Units 3 and 4 TSs and the TSs on which TSTF-425 is based.

Basis for proposed no significant hazards consideration determination: As required by 10 CFR 50.91(a), the licensee provided its analysis of the issue of no significant hazards consideration, which is presented below:

1. Does the proposed change involve a significant increase in the probability or consequences of an accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the Technical Specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of any accident previously evaluated.

2. Does the proposed change create the possibility of a new or different kind of accident from any accident previously evaluated?

Response: No.

The proposed changes relocate the surveillance frequencies for Surveillance Requirements that have a set periodicity from the TS to a licensee controlled Surveillance Frequency Control Program. This change does not alter any existing surveillance frequencies. Within the constraints of the Program, the licensee will be able to change the periodicity of these surveillance requirements. Relocating the surveillance frequencies does not impact the ability of structures, systems or components (SSCs) from performing there [sic] design functions, and thus, does not create the possibility of a new or different kind of accident from any previously evaluated.

No new or different accidents result from utilizing the proposed change. The changes do not involve a physical alteration of the plant (i.e., no new or different type of equipment will be installed) or a change in the methods governing normal plant operation. In addition, the changes do not impose any new or different requirements. The changes do not alter assumptions made in the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, FPL will perform a probabilistic risk evaluation using the guidance contained in NRC-approved NEI 04-10, Revision 1, in accordance with the TS Surveillance Frequency Control Program. NEI 04-10, Revision 1, methodology provides reasonable acceptance guidelines and methods for evaluating the risk increase of proposed changes to surveillance frequencies consistent with Regulatory Guide (RG) 1.177, “An Approach for Plant-Specific, Risk-Informed Decision-Making: Technical Specifications.”

Therefore, the proposed changes do not involve a significant reduction in a margin of safety.

The NRC staff reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd., MS LAW/JB, Juno Beach, FL 33408-0420.

NRC Branch Chief: Shana R. Helton.

NextEra Energy Duane Arnold, LLC, Docket No. 50-331, Duane Arnold Energy Center, Linn County, Iowa

Date of amendment request: January 26, 2015. A publicly-available version is in ADAMS under Accession No. ML15029A600.

Description of amendment request: The proposed amendment would revise Technical Specifications (TS) Section 3.8.3, “Diesel Fuel Oil, Lube Oil, and Starting Air,” by relocating the current stored diesel fuel oil and lube oil numerical volume requirements from the TS to the TS bases so that it may be modified under licensee control. The proposed amendment would also revise TS conditions to state “a greater than 6-day and less 7-day” supply of stored diesel fuel oil and lube oil inventory, in place of the numerical volume requirements, to be available for each diesel generator. The requirement to maintain a 7-day supply of diesel fuel oil and lube oil is not changed and is consistent with the assumptions in the accident analyses. The changes are consistent with NRC-approved Technical Specification Task Force (TSTF) Change Traveler TSTF-501, Revision 1, “Relocate Stored Fuel Oil and Lube Oil Volume Values to Licensee Control.”

Basis for proposed no significant hazards consideration determination: As required by 10 CFR 50.91(a), the licensee has provided its analysis of the issue of no significant hazards consideration, which is presented below:

1. Does the proposed change involve a significant increase in the probability or consequences of an accident previously evaluated?

Response: No.

The proposed change relocates the volume of diesel fuel oil and lube oil required to support 7-day operation of an onsite diesel generator; and the volume equivalent to a 6-day supply, to licensee control. The specific volume of fuel oil equivalent to a 7-day and 6-day supply is calculated using the NRC-approved methodology described in Regulatory Guide 1.137, Revision 1, “Fuel-Oil Systems for Standby Diesel Generators,” and ANSI N195-1976, “Fuel Oil Systems for Standby Diesel-Generators.” The specific volume of lube oil equivalent to a 7-day and 6-day supply is based on the diesel generator manufacturer's consumption values for the run time of the diesel generator. Because the requirement to maintain a 7-day supply of diesel fuel oil and lube oil is not changed and is consistent with the assumptions in the accident analyses, and the actions taken when the volume of fuel oil and lube oil is less than a 6-day supply have not changed, neither the probability nor the consequences of any accident previously evaluated will be affected.

Therefore, the proposed changes do not involve a significant increase in the probability or consequences of an accident previously evaluated.

2. Does the proposed change create the possibility of a new or different kind of accident from any accident previously evaluated?

Response: No.

The change does not involve a physical alteration of the plant (i.e., no new or different type of equipment will be installed) or a change in the methods governing normal plant operation. The change does not alter assumptions made in the safety analysis but ensures that the diesel generator operates as assumed in the accident analysis. The proposed change is consistent with the safety analysis assumptions.

Therefore, the proposed change does not create the possibility of a new or different kind of accident from any accident previously evaluated.

3. Does the proposed change involve a significant reduction in a margin of safety?

Response: No.

The proposed change relocates the volume of diesel fuel oil and lube oil required to support 7-day operation of an onsite diesel generator, and the volume equivalent to a 6-day supply, to licensee control. As the bases for the existing limits on diesel fuel oil and lube oil are not changed, no change is made to the accident analysis assumptions and no margin of safety is reduced as part of this change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. James Petro, P. O. Box 14000 Juno Beach, FL 33408-0420.

NRC Branch Chief: David L. Pelton.

South Carolina Electric and Gas Company, Docket Nos.: 52-027 and 52-028, Virgil C. Summer Nuclear Station Units 2 and 3, Fairfield County, South Carolina

Date of amendment request: December 19, 2014, as supplemented by letter dated February 25, 2015. Publicly-available versions are in ADAMS under Accession Nos. ML14353A126 and ML15056A429, respectively.

Description of amendment request: The amendment request proposes changes to the Class 1E direct current and Uninterruptible Power Supply System, replacing four Spare Termination Boxes with a single Spare Battery Termination Box. Because this proposed change requires a departure from Tier 1 information in the Westinghouse Advanced Passive 1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not affect the operation of any systems or equipment that initiate an analyzed accident or alter any structures, systems, and components (SSC) accident initiator or initiating sequence of events. The IDS design change involves replacing the four Spare Termination Boxes with a single Spare Battery Termination Box, and minor raceway and cable routing changes. The proposed changes maintain the method used to manually connect the Spare Battery Bank and Spare Battery Bank Charger to supply loads of one of the four 24 Hour Battery Switchboards or one of the two 72 Hour Battery Switchboards at a time while maintaining the independence of the IDS divisions. Therefore, the probabilities of the accidents evaluated in the UFSAR [Updated Final Safety Analysis Report] are not affected.

The proposed changes do not have an adverse impact on the ability of the IDS equipment to perform its design functions. The design of the IDS equipment continues to meet the same regulatory acceptance criteria, electrical codes, and standards as required by the UFSAR. Therefore, the proposed changes do not affect the prevention and mitigation of other abnormal events, e.g., accidents, anticipated operational occurrences, earthquakes, floods and turbine missiles, or their safety or design analyses. In addition, the proposed changes do not have an adverse effect on any safety-related SSC or function used to mitigate an accident; therefore, the consequences of the accidents evaluated in the UFSAR are not affected.

Therefore, the proposed changes do not involve a significant increase in the probability or consequences of an accident previously evaluated.

2. Does the proposed amendment create the possibility of a new or different kind of accident from any accident previously evaluated?

Response: No.

The proposed changes do not change the design functions of IDS or any of the systems or equipment in the plant. The IDS design change involves replacing the four Spare Termination Boxes with a single Spare Battery Termination Box, and minor raceway and cable routing changes, and the electrical equipment continues to perform its design functions because the same electrical codes and standards as stated in the UFSAR continue to be met. The proposed changes maintain the method used to manually connect the Spare Battery Bank and Spare Battery Bank Charger to supply loads of one of the four 24 Hour Battery Switchboards or one of the two 72 Hour Battery Switchboards at a time while maintaining the independence of the IDS divisions. These proposed changes do not adversely affect any IDS or SSC design functions or methods of operation in a manner that results in a new failure mode, malfunction, or sequence of events that affect safety-related or non-safety-related equipment. Therefore, this activity does not allow for a new fission product release path, result in a new fission product barrier failure mode, or create a new sequence of events that result in significant fuel cladding failures.

Therefore, the proposed changes do not create the possibility of a new or different kind of accident from any previously evaluated.

3. Does the proposed amendment involve a significant reduction in a margin of safety?

Response: No.

The proposed changes maintain existing safety margins. The proposed changes do not result in changes to the IDS design requirements or design functions. The proposed changes maintain existing safety margin through continued application of the existing requirements of the UFSAR. Therefore, the proposed changes satisfy the same design functions in accordance with the same codes and standards as stated in the UFSAR. These proposed changes do not affect any design code, function, design analysis, safety analysis input or result, or design/safety margin.

Because no safety analysis or design basis acceptance limit/criterion is challenged or exceeded by these proposed changes, no margin of safety is reduced.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270 and 50-287, Oconee Nuclear Station, Units 1, 2 and 3, Oconee County, South Carolina

Date of amendment request: April 26, 2013, as supplemented by letter dated February 12, 2015.

Brief description of amendments: The amendments revised the Oconee Nuclear Station (ONS) Technical Specifications (TSs) surveillance requirement to verify that acceptable steady-state limits on the electrical frequency are achieved by the two Keowee Hydro Units, which are the emergency power sources for the ONS.

Date of Issuance: April 23, 2015.

Effective date: As of the date of issuance and shall be implemented within 30 days from the date of issuance.

Amendment Nos.: 390, 392, and 391. A publicly-available version is in ADAMS under Accession No. ML15093A349. Documents related to these amendments are listed in the Safety Evaluation enclosed with the amendments.

Renewed Facility Operating License Nos. DPR-38, DPR-47, and DPR-55: Amendments revised the Renewed Facility Operating Licenses and TSs.

Date of initial notice in Federal Register: July 9, 2013, 78 FR 41121. The supplemental letter dated February 12, 2015, provided additional information that clarified the application, did not expand the scope of the application as originally noticed, and did not change the staff's original proposed no significant hazards consideration determination as published in the Federal Register.

The Commission's related evaluation of the amendments is contained in a Safety Evaluation dated April 23, 2015.

No significant hazards consideration comments received: No.

Entergy Nuclear Operations, Inc., Docket No. 50-255, Palisades Nuclear Plant, Van Buren County, Michigan

Date of application for amendment: June 25, 2013, as supplemented by letters dated August 7, 2013; and February 13, July 16, and December 9, 2014.

Brief description of amendment: The amendment revises the Palisades Nuclear Plant Site Emergency Plan Figure 5-2, “Plant Staffing and Augmentation Requirements” to increase augmentation response times for certain emergency response organization positions.

Date of issuance: April 22, 2015.

Effective date: As of the date of issuance and shall be implemented within 60 days.

Amendment No.: 255. A publicly-available version is in ADAMS under Accession No. ML15055A106; documents related to this amendment are listed in the Safety Evaluation enclosed with the amendment.

Renewed Facility Operating License No. DPR-20: Amendment revised the Renewed Facility Operating License.

Date of initial notice in Federal Register: March 18, 2014 (79 FR 15148). The supplement letters dated August 7, 2013, and February 13 and July 16, 2014, provided additional information that clarified the application, did not expand the scope of the application as originally noticed, and did not change the staff's original proposed no significant hazards consideration determination as published in the Federal Register. The Commission issued a revised no significant hazards consideration determination that was published in the Federal Register on January 6, 2015 (80 FR 523), to consider the aspects of the revised tasks associated with radiation protection technicians provided in the supplemental letter dated December 9, 2014.

The Commission's related evaluation of the amendment is contained in a Safety Evaluation dated April 22, 2015.

No significant hazards consideration comments received: No.

Entergy Operations, Inc., Docket No. 50-368, Arkansas Nuclear One, Unit 2, Pope County, Arkansas

Date of application for amendment: February 6, 2015, as supplemented by letter dated February 24, 2015.

Brief description of amendment: The amendment revised a Note to Technical Specification (TS) Surveillance Requirement (SR) 4.1.3.1.2 to exclude Control Element Assembly (CEA) 18 from being exercised per the SR for the remainder of Cycle 24 due to a degrading upper gripper coil. The amendment allows the licensee to delay exercising the CEA until after repairs can be made during the upcoming fall 2015 outage.

Date of issuance: April 29, 2015.

Effective date: As of the date of issuance and shall be implemented immediately.

Amendment No.: 302. A publicly-available version is in ADAMS under Accession No. ML15096A381; documents related to this amendment are listed in the Safety Evaluation enclosed with the amendment.

Renewed Facility Operating License No. NPF-6: Amendment revised the TSs/license.

Date of initial notice in Federal Register: March 3, 2015 (80 FR 11475). The supplemental letter dated February 24, 2015, provided additional information that clarified the application, did not expand the scope of the application as originally noticed, and did not change the staff's original proposed no significant hazards consideration determination as published in the Federal Register.

The Commission's related evaluation of the amendment and final no significant hazards consideration determination are contained in a Safety Evaluation dated April 29, 2015.

No significant hazards consideration comments received: No.

Entergy Operations, Inc., Docket No. 50-313, Arkansas Nuclear One, Unit 1, Pope County, Arkansas

Date of amendment request: November 21, 2014, as supplemented by letters dated February 6, March 10, March 25, and April 7, 2015.

Brief description of amendment: The amendment revised Technical Specification (TS) 3.4.3, “RCS [Reactor Coolant System] Pressure and Temperature (P/T) Limits”; TS 3.4.9, “Pressurizer”; TS 3.4.10, “Pressurizer Safety Valves”; and TS 3.4.11, “Low Temperature Overpressure Protection (LTOP) System,” to update the RCS P/T limits to 54 effective full power years (EFPY). The current P/T limits are applicable up to 31 EFPY.

Date of issuance: April 24, 2015.

Effective date: As of the date of issuance and shall be implemented within 30 days from the date of issuance.

Amendment No.: 254. A publicly-available version is in ADAMS under Accession No. ML15096A324; documents related to this amendment are listed in the Safety Evaluation enclosed with the amendment.

Renewed Facility Operating License No. DPR-51: Amendment revised the TSs/license.

Date of initial notice in Federal Register: January 6, 2015 (80 FR 524). The supplemental letters dated February 6, March 10, March 25, and April 7, 2015, provided additional information that clarified the application, did not expand the scope of the application as originally noticed, and did not change the staff's original proposed no significant hazards consideration determination as published in the Federal Register.

The Commission's related evaluation of the amendment is contained in a Safety Evaluation dated April 24, 2015.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: November 8, 2013, as supplemented by letters dated September 29, 2014; November 13 and 19, 2014; and January 20 and 27, 2015.

Brief description of amendment: The amendment revised the Technical Specifications (TSs) to risk-inform requirements regarding selected required action end states by adopting Technical Specification Task Force (TSTF) Traveler 423, Revision 1, “Technical Specifications End States, NEDC-32988-A,” with some deviations as approved by the NRC staff. This TS improvement is part of the consolidated line item improvement process. In addition, it approves a change to the facility operating license for the Grand Gulf Nuclear Station, Unit 1. The change adds a new license condition for maintaining commitments required for the approval of this TSTF into the Updated Final Safety Analysis Report.

Date of issuance: April 23, 2015.

Effective date: As of the date of issuance and shall be implemented 60 days from the date of issuance.

Amendment No: 201. A publicly-available version is in ADAMS under Accession No. ML15007A183; documents related to this amendment are listed in the Safety Evaluation enclosed with the amendment.

Facility Operating License No. NPF-29: The amendment revised the Facility Operating License and TSs.

Date of initial notice in Federal Register: March 4, 2014 (79 FR 12245). The supplemental letters dated September 29, November 13, and November 19, 2014; and January 20 and January 27, 2015, provided additional information that clarified the application, did not expand the scope of the application as originally noticed, and did not change the staff's original proposed no significant hazards consideration determination as published in the Federal Register.

The Commission's related evaluation of the amendment is contained in a Safety Evaluation dated April 23, 2015.

No significant hazards consideration comments received: No.

NextEra Energy Seabrook, LLC, Docket No. 50-443, Seabrook Station, Unit 1, Rockingham County, New Hampshire

Date of amendment request: July 10, 2014, as supplemented by letter dated July 22, 2014.

Description of amendment request: The amendment revised the Seabrook Station, Unit 1, Cyber Security Plan (CSP) Milestone 8 full implementation date as set forth in the Cyber Security Plan Implementation Schedule.

Date of issuance: April 22, 2015.

Effective date: As of its date of issuance, and shall be implemented within 60 days.

Amendment No.: 146. A publicly-available version is in ADAMS under Accession No. ML15058A706; documents related to this amendment are listed in the Safety Evaluation enclosed with the amendment.

Facility Operating License No. NPF-86: The amendment revised the Facility Operating License.

Date of initial notice in Federal Register: October 7, 2014 (79 FR 60519).

The Commission's related evaluation of the amendment is contained in a Safety Evaluation dated April 22, 2015.

No significant hazards consideration comments received: No.

NextEra Energy Seabrook, LLC, Docket No. 50-443, Seabrook Station, Unit 1, Rockingham County, New Hampshire

Date of amendment request: July 24, 2014, as supplemented by letters dated December 11, 2014, and January 9, 2015.

Description of amendment request: The amendment revised the Seabrook Technical Specifications (TS). The amendment increased the voltage limit for a full load rejection test of the emergency diesel generator specified in Surveillance Requirements 4.8.1.1.2.f.3 of TS 3.8.1.1, “A.C. Sources—Operating.” The amendment also revised the TS definition of the terms “Operable—Operability.”

Date of issuance: April 24, 2015.

Effective date: As of its date of issuance, and shall be implemented within 60 days.

Amendment No.: 147. A publicly-available version is in ADAMS under Accession No. ML15082A233; documents related to this amendment are listed in the Safety Evaluation enclosed with the amendment.

Facility Operating License No. NPF-86: The amendment revised the facility operating license and TSs.

Date of initial notice in Federal Register: September 30, 2014 (79 FR 58821). The supplemental letters dated December 11, 2014, and January 9, 2015, provided additional information that clarified the application, did not expand the scope of the application as originally noticed, and did not change the staff's original proposed no significant hazards consideration determination as published in the Federal Register.

The Commission's related evaluation of the amendment is contained in a Safety Evaluation dated April 24, 2015.

No significant hazards consideration comments received: No.

South Carolina Electric & Gas Company, Docket Nos. 52-027 and 52-028, Virgil C. Summer Nuclear Station, Units 2 and 3, Fairfield County, South Carolina

Date of amendment request: May 20, 2014, and supplemented by the letters dated June 3, November 6, and November 20, 2014.

Brief description of amendment: The license amendment revised the facilities' combined operating licenses (COLs) to make changes to COL Appendix C and corresponding plant-specific Tier 1 information to correct editorial errors and/or consistency errors (e.g., inconsistencies between Updated Final Safety Analysis Report (UFSAR) (Tier 2) and Tier 1 information, and inconsistencies between information from different locations within Tier 1).

Date of issuance: March 10, 2015.

Effective date: As of the date of issuance and shall be implemented within 30 days of issuance.

Amendment No.: 23. A publicly-available version is in ADAMS under Accession No. ML14345B023; documents related to these amendments are listed in the Safety Evaluation enclosed with the amendments.

Facility Combined Licenses Nos. NPF-93 and NPF-94: Amendment revised the facilities' COLs.

Date of initial notice in Federal Register: September 2, 2014 (79 FR 52059). The supplemental letters dated June 3, November 6, and November 20, 2014, provided additional information that clarified the application, did not expand the scope of the application as originally noticed, and did not change the staff's original proposed no significant hazards consideration determination as published in the Federal Register.

The Commission's related evaluation of the amendment is contained in a Safety Evaluation dated March 10, 2015.

No significant hazards consideration comments received: No.

Southern Nuclear Operating Company, Inc. Docket Nos. 52-025 and 52-026, Vogtle Electric Generating Plant (VEGP) Units 3 and 4, Burke County, Georgia

Date of amendment request: November 20, 2014.

Brief description of amendment: The amendment is to Combined Operating License Nos. NPF-91 and NPF-92 for the VEGP Units 3 and 4. The amendment revises the VEGP Updated Final Safety Analysis Report (UFSAR) to clarify a human factors engineering operational sequence analysis related to the AP1000 Automatic Depressurization System and will delete document WCAP-15847, “AP1000 Quality Assurance Procedures Supporting NRC Review of AP1000 DCD Sections 18.2 and 18.8,” that is incorporated by reference into the UFSAR. Both of the amendments constitute changes to information identified as Tier 2* information as defined in 10 CFR, part 52, appendix D, section II.F.

Date of issuance: April 21, 2015.

Effective date: As of the date of issuance and shall be implemented within 30 days of issuance.

Amendment No.: 33. A publicly-available version is in ADAMS under Accession No. ML15023A563; documents related to this amendment are listed in the Safety Evaluation enclosed with the amendment.

Facility Combined Licenses No. NPF-91 and NPF-92: Amendment revised the Facility Combined Operating Licenses.

Date of initial notice in Federal Register: January 20, 2015 (80 FR 2752).

The Commission's related evaluation of the amendment is contained in a Safety Evaluation dated April 21, 2015.

No significant hazards consideration comments received: No.

Virginia Electric and Power Company, Docket Nos. 50-280 and 50-281, Surry Power Station, Units 1 and 2, Surry County, Virginia

Date of amendment request: April 11, 2014, as supplemented by letter dated March 4, 2015.

Description of amendment request: The amendments revise Technical Specification (TS) 4.2, “Augmented Inspections,” and TS 4.15, “Augmented Inservice Inspection Program for High Energy Lines Outside of Containment,” by relocating them to the SPS Technical Requirements Manual (TRM), with the exception of the reactor coolant pump flywheel inspection. In addition, TS 6.4.U, “Augmented Inspections and Examinations,” is added to TS 6.4, “Unit Operating Procedures and Programs.”

Date of issuance: April 28, 2015.

Effective date: As of the date of issuance and shall be implemented within 60 days from the date of issuance.

Amendment Nos.: 284 and 284. A publicly-available version is in ADAMS under Accession No. ML15099A679; documents related to these amendments are listed in the Safety Evaluation enclosed with the amendments.

Renewed Facility Operating License Nos. DPR-32 and DPR-37: Amendments revised the Renewed Facility Operating Licenses and Technical Specifications.

Date of initial notice in Federal Register: July 22, 2014 (79 FR 42553). The supplemental letter dated March 4, 2015, provided additional information that clarified the application, did not expand the scope of the application as originally noticed, and did not change the staff's original proposed no significant hazards consideration determination as published in the Federal Register.

The Commission's related evaluation of the amendments is contained in a Safety Evaluation dated April 28, 2015.

No significant hazards consideration comments received: No.

Dated at Rockville, Maryland, this 1st day of May, 2015.
For the Nuclear Regulatory Commission.
George A. Wilson,
Deputy Director, Division of Operating Reactor Licensing, Office of Nuclear Reactor Regulation.

[FR Doc. 2015-11225 Filed 5-11-15; 8:45 am]

BILLING CODE 7590-01-P